DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility to Apply for Trade Adjustment Assistance
[8/25/2011 through 9/21/2011]
Firm name | Address | Date accepted for Investigation | Products
B&G Seafood, Inc. | 17358 Hwy. 631, Des Allemands, LA 70030 | 9/20/2011 | The firm processes seafood.
CSE Automation, LLC | 7826 Centech Road, Omaha, NE 68138 | 9/19/2011 | The firm designs and manufactures equipment used to manufacture wood cabinets, furniture and windows.
Debond Corporation DBA Flexpak Corporation | 3720 West Washington Street, Phoenix, AZ 85009 | 9/9/2011 | The firm supplies custom thermoforming and contract, medial and food packaging solutions.
EuroPlast, Ltd. | 100 S. Industrial Lane, Endeavor, WI 53930 | 9/9/2011 | The firm manufactures plastic valves/enclosures, plastic bins, totes for electrical metering, and internal security components for locking devices.
Greg Arceneaux Cabinetmakers, Inc | 703 W. 26th Ave., Covington, LA 70433 | 9/6/2011 | The firm manufactures custom cabinetry and millwork.
Oakridge Seafood, LLC | 3408 E. Old Spanish Trail, New Iberia, LA 70560 | 9/12/2011 | The firm processes seafood.
R. S. Owens & Company | 5535 N. Lynch Avenue, Chicago, IL 60630 | 9/9/2011 | The firm designs, manufactures, and assembles awards, trophies, recognition items and promotional products.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 21, 2011.
Bryan Borlik,
Director, Trade Adjustment Assistance for Firms Program.

[FR Doc. 2011-25022 Filed 9-28-11; 8:45 am]

BILLING CODE 3510-WH-P